DEPARTMENT OF ENERGY

Office of Energy Efficiency and Renewable Energy

10 CFR Part 431

[Docket No. EE-RM/STD-01-375]

RIN 1904-AB09

Energy Conservation Program for Commercial and Industrial Equipment: Energy Conservation Standards for Commercial Unitary Air Conditioners and Heat Pumps

AGENCY: Office of Energy Efficiency and Renewable Energy, Department of Energy (DOE).

ACTION: Advance notice of proposed rulemaking; availability of the “Joint Stakeholders Comments” and opportunity for comment.

SUMMARY: DOE announces the availability of the “Joint Stakeholders Comments on Standards for Commercial Package Air Conditioners and Heat Pumps” (hereafter “Joint Stakeholders Comments”) and an opportunity for public comment. DOE received the Joint Stakeholders Comments from a group of nineteen stakeholders in response to DOE's advance notice of proposed rulemaking (ANOPR) concerning standards for commercial unitary air conditioners and heat pumps. This notice informs the public of the recommended minimum energy efficiency standards presented in the Joint Stakeholders Comments. To help DOE determine the appropriate next step in this rulemaking, DOE invites interested members of the public who did not join in the Joint Stakeholders Comments to submit any comments they may have on the Joint Stakeholders Comments, including the recommendation for expediting the proceedings by adopting these recommended efficiency standards through a direct final rule.

DATES: DOE will accept written comments, data, and information regarding the Joint Stakeholders Comments until, but no later than 4 p.m., April 1, 2005.

ADDRESSES: A document entitled “Joint Stakeholders Comments on Standards for Commercial Package Air Conditioners and Heat Pumps, Docket EE-RM/STD-01-375” is available for review on the Internet at: http://www.eere.energy.gov/buildings/appliance_standards/commercial/cuac_anopr.html or from Ms. Brenda Edwards-Jones, U.S. Department of Energy, Building Technologies Program, EE-2J, Room 1J-018, 1000 Independence Ave., SW., Washington, DC 20585, or by telephone (202) 586-2945.

You may submit comments, identified by EE-RM/STD-01-375 or RIN Number 1904-AB09, by any of the following methods:

• Federal eRulemaking Portal: http://www.regulations.gov. Follow the instructions for submitting comments.

• E-mail: commercialairconditioner.anopr@ee.doe.gov with “Joint Stakeholders Comments on Standards for Commercial Air Conditioners and Heat Pumps” in the subject line.

• Mail: Ms. Brenda Edwards-Jones, U.S. Department of Energy, Building Technologies Program, EE-2J, Room 1J-018, 1000 Independence Ave., SW., Washington, DC 20585.

• Fax: (202) 586-4617.

FOR FURTHER INFORMATION CONTACT: James Raba, U.S. Department of Energy, Office of Energy Efficiency and Renewable Energy, Building Technologies, EE-2J, 1000 Independence Avenue, SW., Washington, DC 20585. Telephone: (202) 586-8654. E-mail: jim.raba@ee.doe.gov or Francine Pinto, U.S. Department of Energy, Office of General Counsel, GC-72, 1000 Independence Avenue, SW., Washington, DC 20585. Telephone: (202) 586-9507. E-mail: francine.pinto@hq.doe.gov.

SUPPLEMENTARY INFORMATION: On July 29, 2004, DOE published in the Federal Register an ANOPR to solicit public comments on its preliminary analyses concerning possible energy efficiency standards for certain commercial unitary air conditioners and heat pumps with rated cooling capacities of 65,000 British thermal units per hour (Btu/h) and greater, but less than 240,000 Btu/h. This rulemaking was initiated under the authority of the Energy Policy and Conservation Act (42 U.S.C. 6311 et seq.) (EPCA). In response to the ANOPR, a group of nineteen stakeholders submitted to DOE a set of joint comments. That group of stakeholders (hereafter “Joint Stakeholders”) includes: the Air-Conditioning and Refrigeration Institute; the American Council for an Energy-Efficient Economy; Aaon, Inc.; The Alliance to Save Energy; the Appliance Standards Awareness Project; Armstrong Air Conditioning Inc.; the California Energy Commission; Carrier Corporation; Daikin Industries, Ltd.; Lennox International Inc.; Mammoth, Inc.; McQuay International; the Natural Resources Defense Council; Nordyne Inc.; Northeast Energy Efficiency Partnerships; Rheem Manufacturing Company; Sanyo Fisher (USA) Corp.; Trane/American Standard Inc.; and York International Corp.

The Joint Stakeholders Comments recommend the adoption of certain energy efficiency standards that the Joint Stakeholders assert meet the applicable statutory requirements. Specifically, the Joint Stakeholders recommend minimum energy efficiency ratios (EERs) and coefficients of performance (COPs) for certain commercial package air conditioners and heat pumps, respectively, as follows:

Air-cooled products | Efficiency standards
≥65,000 — < 135,000 Btu/h | 11.2/11.0 EER for Air Conditioners.
| 11.0/10.8 EER for Heat Pumps.
| 3.3 COP @47°F for Heat Pumps.
≥135,000 — < 240,000 Btu/h | 11.0/10.8 EER for Air Conditioners.
| 10.6/10.4 EER for Heat Pumps.
| 3.2 COP @47°F for Heat Pumps.

The Joint Stakeholders Comments further ask DOE to adopt January 1, 2010, as the effective date for compliance with the recommended minimum efficiency standards. The Comments state that this date was chosen to coincide with a change in the refrigerant used in these systems mandated by the Clean Air Act, as amended. (42 U.S.C. 7401 et seq.) The Joint Stakeholders urge DOE to issue a notice of proposed rulemaking (NOPR) or a direct final rule that would adopt the Joint Stakeholders' recommended minimum efficiency standards. The Joint Stakeholders Comments are available for review on the Internet at http://www.eere.energy.gov/buildings/appliance_standards/commercial/cuac_anopr.html, or from Ms. Brenda Edwards-Jones, U.S. Department of Energy, Building Technologies Program, EE-2J, Room 1J-018, 1000 Independence Ave., SW., Washington, DC 20585, or by telephone (202) 586-2945.

1. The Efficiency Standards

Because of the diversity of interests represented by the Joint Stakeholders, the minimum efficiency standards they have recommended may be acceptable to stakeholders who were not parties to the Joint Stakeholders Comments. DOE is interested in other stakeholders' reactions to the recommended minimum efficiency standards and whether stakeholders who did not sign the joint comments believe the recommended standards are appropriate and could or should be adopted.

2. Rulemaking Procedure

The Joint Stakeholders urge DOE to adopt the recommended standards by issuing either a standard Notice of Proposed Rulemaking (NOPR) or a direct final rule.

If DOE were to proceed with the NOPR process, it would issue a standard NOPR and accept comments from interested members of the public. After considering the comments and possibly conducting further analyses, DOE would publish a notice of final rulemaking with a preamble that responded to major issues that emerge from the comments. This procedure would be the more time consuming of the two alternatives suggested by the Joint Stakeholders because, based on DOE's experience, it believes the two notices would require long preparation times; moreover, the two notices would be published separately with a wide interval between publication dates.

The direct final rulemaking procedure would involve simultaneous publication of both a direct final rule, and a NOPR that incorporates by reference the text of the direct final rule. The preamble of the direct final rule would include a statement that the agency would publish a timely notice of withdrawal in the Federal Register before the effective date established for purposes of modifying the Code of Federal Regulations and proceed with the NOPR if it receives significant adverse public comments. If significant adverse comments are not received, the direct final rule would become effective without any other action by the agency. This procedure is appropriate only for rules for which significant adverse comment is considered unlikely.

DOE is interested in stakeholder comments on these alternative procedures and whether the public would benefit by implementing minimum energy efficiency standards for commercial package air conditioners and heat pumps in an expedited manner. If public comments in response to today's notice of availability indicate that there is no significant opposition to DOE promulgating a direct final rule establishing the standards recommended by the Joint Stakeholders Comments, DOE would strongly consider doing so if DOE concluded that such standards meet EPCA requirements.

All persons interested in submitting comments on the Joint Stakeholders Comments must submit their comments to DOE by the date specified in the DATES section of this notice; after that date, no further submissions will be entertained. Comments must be submitted to one of the addresses listed in the ADDRESSES section of this notice. DOE will consider all comments received by the specified deadline.

Issued in Washington, DC, on February 9, 2005.
David K. Garman,
Assistant Secretary, Energy Efficiency and Renewable Energy.

[FR Doc. 05-2875 Filed 2-14-05; 8:45 am]

BILLING CODE 6450-01-P